DEPARTMENT OF THE INTERIOR

Bureau of Land Management

[LLWO320000L1320000.PP]

Extension of Approved Information Collection, OMB Control Number 1004-0073

AGENCY: Bureau of Land Management, Interior.

ACTION: 60-day notice and request for comments.

SUMMARY: In compliance with the Paperwork Reduction Act of 1995, the Bureau of Land Management (BLM) announces its intention to request that the Office of Management and Budget (OMB) extend approval for the paperwork requirements in 43 CFR parts 3400 through 3500, which cover leasing or developing Federal coal. The BLM uses the information to determine if the applicant is qualified to hold a Federal coal lease. The Office of Management and Budget (OMB) previously approved this information collection activity under the control number 1004-0073.

DATES: You must submit your comments to the BLM at the address below on or before March 8, 2010. The BLM is not obligated to consider any comments postmarked or received after the above date.

ADDRESSES: You may mail comments to: U.S. Department of the Interior, Bureau of Land Management, Mail Stop 401-LS, 1849 C St., NW., Washington, DC 20240, Attention: 1004-0073. You may also comment by e-mail at: Jean_Sonneman@blm.gov. Comments will be available for public review at the L Street address during regular business hours (7:45 a.m. to 4:15 p.m.), Monday through Friday, excluding Federal holidays.

FOR FURTHER INFORMATION CONTACT: You may contact John A. Lewis, Division of Solid Minerals at (202) 912-7116 (Commercial or FTS). Persons who use a telecommunication device for the deaf (TDD) may call the Federal Information Relay Service (FIRS) on 1-800-877-8339, 24 hours a day, seven days a week, to contact Mr. Lewis. You may also contact Mr. Lewis to obtain a copy, at no cost, of the regulations and forms that require this collection of information.

SUPPLEMENTARY INFORMATION: OMB regulations at 5 CFR part 1320, which implement provisions of the Paperwork Reduction Act (44 U.S.C. 3501-3521), require that interested members of the public and affected agencies be provided an opportunity to comment on information collection and recordkeeping activities (see 5 CFR 1320.8(d) and 1320.12(a)). This notice identifies information collections that are contained in 43 CFR parts 3400 through 3500, which cover leasing and the development of Federal coal. The BLM will request that the OMB approve this information collection activity for a 3-year term.

Comments are invited on: (1) The need for the collection of information for the performance of the functions of the agency; (2) the accuracy of the agency's burden estimates; (3) ways to enhance the quality, utility, and clarity of the information collection; and (4) ways to minimize the information collection burden on respondents, such as use of automated means of collection of the information. A summary of the public comments will accompany the BLM's submission of the information collection requests to OMB.

The following information is provided for the information collection:

Title: Coal Management (43 CFR 3400-3500).

Forms:

• Form 3400-12; Coal Lease.

• Form 3440-1; License to Mine.

OMB Control Number: 1004-0073.

Abstract: This notice pertains to information collections that cover the leasing and development of Federal coal. The BLM determines if the applicant to lease is qualified to hold a lease or develop Federal coal. The information collections covered by this notice are found at 43 CFR parts 3400 through 3500; and in the form listed above.

Frequency: On occasion.

Estimated Number and Description of Respondents: Approximately 1235 applicants to hold a coal lease or develop Federal coal.

Estimated Reporting and Recordkeeping “Hour” Burden: The currently approved annual reporting burden for this collection is 21,022 hours. The following chart details the individual components and respective hour burden estimates of this information collection request:

Regulation 43 CFR | Type of application | Estimated number of responses | Estimated hours per response
3410 | Application for an exploration license | 10 | 36
3410 | Issuance and termination of an exploration license | 5 | 12
3410 | Operations under and modification of an exploration license | 1 | 1
3410 | Collection and submission of data from an exploration license | 5 | 18
3420 | Call for coal resource and other resource information | 0 | 3
3420 | Surface owner consultation | 7 | 1
3420 | Expressions of leasing interest | 0 | 7
3422 | Response to notice of sale | 8 | 56
3422 | Consultation with Attorney General | 7 | 4
3425 | Leasing on application | 15 | 308
3427 | Surface owner consent | 7 | 1
3430 | Preference right lease application | 3 | 800
3432 | Lease modifications | 5 | 12
3440 | License to mine | 2 | 21
3452 | Relinquishments | 30 | 18
3453 | Transfers, assignments, subleases | 43 | 10
3410, 3453, 3473 | Bonds | 196 | 8
3471 | Land description requirements | 15 | 2
3471 | Future interest lease application | 0 | 16
3472 | Special leasing qualifications | 4 | 3
3472 | Qualification statement | 4 | 3
3473 | Lease rental and royalty rate reductions | 9 | 13
3473, 3483 | Lease suspensions | 7 | 20
3475 | Lease form | 12 | 1
3475, 3481, 3487 | Logical mining units | 5 | 170
3481 | General obligations of the operator/lessee | 1 | 1
3482 | Exploration plans | 11 | 30
3482 | Resource recovery and protection plan | 4 | 192
3482 | Modifications to exploration plans and resource recovery and protection plans | 79 | 16
3482 | Mining operations maps | 311 | 20
3483 | Request for payment of advance royalty in lieu of continued operation | 12 | 22
3484 | Performance standards for exploration (Retention of samples) | 22 | 1
3484 | Performance standards for surface and underground coal mines | 6 | 1
3485 | Exploration reports | 7 | 4
3485, 3486 | Production reports | 323 | 10
3486 | Notices and orders | 1 | 2
3486 | Enforcement | 8 | 2

Estimated Reporting and Recordkeeping “Non-Hour Cost” Burden: The currently approved annual non-hour cost burden for Control Number 1004-0073 is $1,048,578.

The PRA (44 U.S.C. 3501, et seq.) provides that an agency may not conduct or sponsor a collection of information unless it displays a currently valid OMB control number. Until OMB approves a collection of information, you are not obligated to respond.

The BLM will summarize all responses to this notice and include them in the request for OMB approval. All comments will become a matter of public record. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer, Bureau of Land Management.

[FR Doc. E9-31375 Filed 1-4-10; 8:45 am]

BILLING CODE 4310-84-P